DEPARTMENT OF LABOR

Office of the Secretary

Submission for OMB Review; Comment Request

December 20, 2000.

The Department of Labor (DOL) has submitted the following public information collection requests (ICRs) to the Office of Management and Budget (OMB) for reveiw and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz [{202} 693-4127 or by E-mail to Kurz-Karin@dol.gov). To obtain documentation for ESA, MSHA, OSHA, and VETS contact Darrin King ({202} 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ({202} 395-7316), within 30 days from the date of this publication in the Federal Register.

The OMB is particularly interested in comments which:

• evaluate the proposed collection of inforamtion is necessasry for the proper performance of the functions of the agency, including whether the information will have practical utility;

• evaluate the accuracy of the agency's estimate of the burden of the proposed collection of information, including the validity of the methodology and assumptions used;

• enhance the quality, utlity, and clarity of the information to be collected; and

• minimize the burden of the collection of information on those who are to respond, including through the use of appropriate automated, electronic, mechanical, or other technological collection techniques or ohter forms of information technology, e.g., permitting electronic submission of responses.

Type of Review: Extension of a currently approved collection.

Agency: Employment and Training Administration.

Title: Domestic Agricultural In-Season Wage Report.

OMB Number: 1205-0017.

Affected Public: Individuals or households; Farms; Federal Government; State, Local, or Tribal govt.

Form | Total respondents | Frequency | Total responses | Average time per responses | Estimated total burden
ETA-232 | 600 | One-time | 600 | 11 Hrs. | 6,600
ETA 232A | 38,805 | Annually | 38,805 | 15 Min. | 9,701
Totals | 39,405 |  | 39,405 | .41 Hours | 16,301

Total annualized capital/startup costs: $0.

Total annual costs (operating/maintaining systems or purchasing services): $0.

Description: State Employment agencies need prevailing wage rates in order to process an employer's application for intrastate and interstate and H-2A foreign farm workers. The wage rate covers agricultural (crop and livestock) and logging jobs. Domestic Migrant and local seasonal as well as foreign H-2A farm workers are hired for these jobs.

Type of Review: New collection.

Agency: Employment and Training Administration.

Title: Reporting and Performance Standards System for Indian and Native American Programs Under Title I, Section 166 of the Workforce Investment Act (WIA).

OMB Number: 1205-0New.

Affected Public: State, Local, and Tribal Govt.; Not-for-profit institutions.

Section 166 Activity (Comprehensive Services) | Number of respondents | Frequency | Total responses | Hours per response | Total burden hours
Plan Narrative | 150 | 1 | 150 | 12 | 1,800
Recordkeeping | 150 | — | 17,000 | 3 | 51,000
Participant Report ETA 9084 | 150 | 2 | 300 | 9.67 | 2,901
Totals | 150 |  | 17,450 | 24.67 | 55,701

Section 166 Activity (Supplemental Youth Services) | Number of respondents | Frequency | Total responses | Hours per response | Total burden hours
Plan Narrative | 115 | 1 | 115 | 6 | 690
Recordkeeping | 115 | — | 10,000 | 2 | 20,000
Participant Report ETA 9085 | 115 | 2 | 230 | 9.67 | 2,224
Totals | 115 |  | 10,345 | 17.67 | 22,914

Total Burden: 78,615 Hours.

Total annualized capital/startup costs: $0.

Total annual costs (operating/maintaining systems or purchasing services): $1,065,000.

Description: This is a proposed collection of participant information relating to the operation of employment and training programs for Indian and Native Americans under Title I, section 166 of the Workforce Investment Act (WIA). It also contains the basis of the new performance standards system for WIA section 166 grantees. The burden estimates for this collection include the Supplemental Youth Service Program as well as the Comprehensive Services Program authorized under section 166. Burden estimates do not include those tribes currently participating in the demonstration under Public Law 102-477.

Ira L. Mills,
Departmental Clearance Officer.

[FR Doc. 00-32954 Filed 12-26-00; 8:45 am]

BILLING CODE 4510-30-M